DEPARTMENT OF THE INTERIOR

National Park Service

[NPS-WASO-NAGPRA-NPS0039412; PPWOCRADN0-PCU00RP14.R50000]

Notice of Inventory Completion: Yale Peabody Museum, Yale University, New Haven, CT

AGENCY: National Park Service, Interior.

ACTION: Notice.

SUMMARY: In accordance with the Native American Graves Protection and Repatriation Act (NAGPRA), the Yale Peabody Museum, Yale University, has completed an inventory of human remains and associated funerary objects and has determined that there is a cultural affiliation between the human remains and associated funerary objects and Indian Tribes in this notice.

DATES: Repatriation of the human remains and associated funerary objects in this notice may occur on or after April 16, 2025.

ADDRESSES: Professor David Skelly, Director, Yale Peabody Museum, P.O. Box 208118, New Haven, CT 06520-8118, telephone (203) 432-3752, email david.skelly@yale.edu.

SUPPLEMENTARY INFORMATION: This notice is published as part of the National Park Service's administrative responsibilities under NAGPRA. The determinations in this notice are the sole responsibility of the Yale Peabody Museum, and additional information on the determinations in this notice, including the results of consultation, can be found in its inventory or related records. The National Park Service is not responsible for the determinations in this notice.

Abstract of Information Available

Human remains representing, at least, one individual have been identified. No associated funerary objects are present. In 1890, George I. Spencer removed the remains from Gleason Mound (8Br99) in Brevard County, Florida. In the same year, the collections were donated to the Yale Peabody Museum through William H. Brewer, Professor at the Yale University Sheffield Scientific School.

Human remains representing, at least, 18 individuals have been identified. The 14 associated funerary objects are seven lots of comingled stone, charcoal, worked shell, and bone implements, one ceramic vessel, one bone implement, one shell pendant, one stone implement, one arrowhead, and two carved bone effigies. The remains and items were removed from Casuarina Mound (8Br122) in Brevard County in 1906 by Charles N. Jenks of Massachusetts. The Yale Peabody Museum purchased the collection from Jenks on October 10, 1907.

Human remains representing, at least, 17 individuals have been identified. No associated funerary objects are present. The remains were removed from the South Indian Field Site (8Br23) in Brevard County in the summer of 1944, during a joint excavation between the Yale Peabody Museum and University of Michigan. Landowner Albert T. Anderson, and graduate students Vera Masius Ferguson and Jean Baxter excavated, and the collections were received at the Yale Peabody Museum in September 1944.

Human remains representing, at least, one individual have been identified. No associated funerary objects are present. In 1946, the remains were removed from an unknown locale approximately 2.8 miles south of Sebastian Inlet in Brevard County by Yale graduate student, John M. Goggin, and donated to the Yale Peabody Museum.

Human remains representing, at least, one individual have been identified. No associated funerary objects are present. Prior to March 1947, the remains were removed from Herndl Beach (8Br109) in Brevard County and donated to the Yale Peabody Museum by Albert T. Anderson.

Human remains representing, at least, one individual have been identified. No associated funerary objects are present. The remains were collected by Albert T. Anderson, John M. Goggin, and Irving Rouse, curator at the Yale Peabody Museum, from the surface at Gleason Mound (8Br99) in Brevard County and donated to the Yale Peabody Museum in June 1949.

Human remains representing, at least, one individual have been identified. The one associated funerary object is faunal remains, a tibia, of a large mammal. Between 1940-1942, Charles D. Higgs excavated various locations throughout Florida, including a beach escarpment site north of Sebastian Beach (8Br130) in Brevard County. Higgs donated the remains and items to the Yale Peabody Museum in August 1951.

Human remains representing, at least, nine individuals have been identified. The 16 associated funerary objects are four lots of comingled sherds, stone implements, and fossilized mammoth bones, one mended ceramic vessel, one ceramic sherd with a bird effigy handle, one pipe bowl, one stone spearhead, one stone plummet, two stone knives, one stone pestle, one stone hand axe, one polishing stone, and two stone celts. In the summer of 1933, the collection items were removed from the cemetery provenience associated with Buzzard's Island (8Ci2) in Citrus County, Florida by Froelich Rainey, a Yale University graduate student, as a part of Yale Peabody Museum anthropological research. The remains and items were donated and received by the Yale Peabody Museum in October 1933.

Human remains representing, at least, one individual have been identified. The two associated funerary objects are one Busycon pe. shell dipper and one net weight. The remains and items were removed from Goodland Point Burial Site (8Cr46) in Collier County, Florida in the spring of 1949, by Albert T. Anderson, John M. Goggin, and Irving Rouse, and donated to the Yale Peabody Museum in June 1949.

Human remains representing, at least, three individuals have been identified. No associated funerary objects are present. Prior to 1923, the remains were removed from an unknown locale from an island southeast of Vero Beach in Indian River County, Florida and donated to the Yale Peabody Museum by Ralph Erwin Hirsh.

Human remains representing, at least, one individual have been identified. No associated funerary objects are present. The remains were removed from the Beachland Site (8Ir16) in Indian River County in the 1940s by Charles D. Higgs and donated to the Yale Peabody Museum in August 1951.

Human remains representing, at least, 20 individuals have been identified. The 30 associated funerary objects are five lots of ceramic sherds, one lot of Busycon pe. shells, one lot of faunal remains, and 23 ceramic sherds. In early 1933, the collection items were removed from Weedon Island (8Pi1) in Pinellas County, Florida by Yale Peabody Museum curator, Cornelius Osgood, and graduate student, Froelich Rainey, with permission from commercial landowner, E.M. Elliott and Associates. The remains and items were donated and received by the Yale Peabody Museum in April 1933.

Human remains representing, at least, two individuals have been identified. No associated funerary objects are present. One individual each was removed from Palmer-Taylor Mound (8Se18), and Cabin Mound (8Se19) located in Seminole County, Florida by members of the Harvard University Excavator's Club between 1940-1941. After being stored at the Harvard Peabody Museum for several years, the remains were donated to the Yale Peabody Museum in 1949.

Human remains representing, at least, one individual have been identified. No associated funerary objects are present. The remains, which include comingled faunal remains, were removed from an unknown locale in Florida in 1941 by H. Gordon Rowe and donated to the Yale Peabody Museum in April 1969 by Mrs. H. Gordon Rowe.

Human remains representing, at least, four individuals have been identified. The one associated funerary object is a lot of ceramic sherds. Prior to 1869, the remains were removed from an unknown locale near the mouth of Lake Harney in Volusia County, Florida by H. S. Williams and donated to the Yale Peabody Museum.

Human remains representing, at least, one individual have been identified. The three associated funerary objects are one lot of ceramic sherds, one lot of comingled shell and stone, and one lot of shell. At an unknown date, the collection items were removed from a locale described as the bank of a small creek near St. Marks in Wakulla County, Florida by Alfred Bishop Mason, Yale University student, class of 1871. Mason donated the remains and items to the Yale Peabody Museum in March 1883.

Cultural Affiliation

Based on the information available and the results of consultation, cultural affiliation is reasonably identified by the geographical location or acquisition history of the human remains and associated funerary objects described in this notice.

Determinations

The Yale Peabody Museum has determined that:

• The human remains described in this notice represent the physical remains of 82 individuals of Native American ancestry.

• The 67 objects described in this notice are reasonably believed to have been placed intentionally with or near individual human remains at the time of death or later as part of the death rite or ceremony.

• There is a connection between the human remains and associated funerary objects described in this notice and the Miccosukee Tribe of Indians; Seminole Tribe of Florida; and The Seminole Nation of Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after April 16, 2025. If competing requests for repatriation are received, the Yale Peabody Museum must determine the most appropriate requestor prior to repatriation. Requests for joint repatriation of the human remains and associated funerary objects are considered a single request and not competing requests. The Yale Peabody Museum is responsible for sending a copy of this notice to the Indian Tribes and Native Hawaiian organizations identified in this notice.

Authority: Native American Graves Protection and Repatriation Act, 25 U.S.C. 3003, and the implementing regulations, 43 CFR 10.10.

Dated: January 23, 2025.
Melanie O'Brien,
Manager, National NAGPRA Program.

[FR Doc. 2025-04196 Filed 3-14-25; 8:45 am]

BILLING CODE 4312-52-P